DEPARTMENT OF HOMELAND SECURITY

U.S. Customs and Border Protection

Notice of Revocation of Customs Brokers' National Permits

AGENCY: U.S. Customs and Border Protection, Department of Homeland Security.

ACTION: Revocation of customs brokers' national permits.

SUMMARY: This document provides notice of the revocation by operation of law of certain customs brokers' national permits for failure to submit a 2025 permit user fee.

FOR FURTHER INFORMATION CONTACT: Mohammad O. Qureshi, Chief, Broker Management Branch, Office of Trade, (202) 909-3753, or mohammad.o.qureshi@cbp.dhs.gov.

SUPPLEMENTARY INFORMATION: This document provides notice that, pursuant to section 641 of the Tariff Act of 1930, as amended (19 U.S.C. 1641), and sections 111.45(b) and 111.96(c) of title 19 of the Code of Federal Regulations (19 CFR 111.45(b) and 19 CFR 111.96(c)), the following customs brokers' national permits were revoked by operation of law, without prejudice, for failure to pay the annual permit user fee for calendar year 2025 by January 31, 2025.¹ Pursuant to 19 CFR 111.45(c), a list of revoked customs brokers' national permits appears below, set forth alphabetically.

¹ U.S. Customs and Border Protection publishes the date by which the permit user fee must be paid annually. See 89 FR 92697 (November 22, 2024).

Last name/company name | First name | Permit No.
ABL Customs Broker, LLC |  | 2024-0078
Adolfo A. Cuellar CHB, Inc |  | 2022-0052
Air Sea Customs Service, Inc |  | 07-0058
Airstream Brokerage Corporation |  | 2022-0097
Bonn | John Gregory | 09-0099
C. Martin Taylor Customs Broker, Inc |  | 11-042
Clement | Stanislas | 2023-0109
Dimsa Trade Services, LLC |  | 2019-0181
Dorfman | Pilar | 2023-0057
“E” Customs Clearing Inc |  | 2022-0163
ECI Customs Brokerage, Inc |  | 05-092
Far East Forwarding, Inc |  | 12-064
Genesis World Corporation |  | 11-061
Gil | Julio E | 2022-0268
Impexp Logistics, LLC |  | 18-032
International Activities Corporation |  | 06-0043
KFS Custom Services Inc |  | 10-080
Kohl III | John Michael | 18-113
Nguyen | Diem Trang | 2022-0203
NPH Logistics, LLC |  | 2021-0036
Persaud | Anthony R | 13-060
Queue Enterprises, Inc |  | 17-127
R G A Logistics, LLC |  | 99-00474
Saucedo | Maritza | 2022-0425
Senator International Freight Forwarding |  | 09-0176
Silveira | Aylin D | 2023-0028
Soo | Mary | 18-051
Trans-Mar Customs Brokers Inc |  | 2021-0026
Vasquez | Joy | 09-0066
W.J. Benkler, Inc |  | 10-020
Will Clear Customs LLC |  | 2024-0071

Jeffrey M. Rezmovic,
Deputy Executive Assistant Commissioner, Office of Trade.

[FR Doc. 2025-23213 Filed 12-17-25; 8:45 am]

BILLING CODE 9111-14-P